DEPARTMENT OF STATE

[Public Notice 7817]

U.S. Department of State Advisory Committee on Private International Law (ACPIL); Online Dispute Resolution (ODR) Study Group Meeting

The Office of Private International Law, Office of the Legal Adviser, Department of State hereby gives notice that the ACPIL Online Dispute Resolution (ODR) Study Group will hold a public meeting on Friday May 4, 2012, from 1 p.m. to 4 p.m. EDT. The public meeting will take place at the main State Department building (Harry S Truman Building). The ACPIL ODR Study Group will meet to discuss the next session of the UNCITRAL ODR Working Group, scheduled for May 21 through May 25, 2012, in New York City.

The UNCITRAL ODR Working Group is charged with the development of legal instruments for resolving both business to business and business to consumer cross-border electronic commerce disputes. The Working Group is in the process of developing generic ODR procedural rules for resolution of cross-border electronic commerce disputes, along with separate legal instruments that may take the form of annexes on guidelines and minimum requirements for online dispute resolution providers and arbitrators, substantive legal principles for resolving disputes, and a cross-border enforcement mechanism.

For the reports of the first three sessions of the UNCITRAL ODR Working Group—December 13-17, 2010, in Vienna (A/CN.9/716); May 23-27, 2011, in New York ((A/CN.9/721); and Nov. 14-18, 2011, in Vienna (A/CN.9/739) and documents relating to the upcoming session—please follow the following link: http://www.uncitral.org/uncitral/commission/working_groups/3Online_Dispute_Resolution.html.

Time and Place: The public meeting will take place in Room 6320 in the Harry S Truman Building, 2201 C Street NW., Washington, DC 20520. Participants should arrive by 12:30 p.m. at the C Street gate for visitor screening. If you are unable to attend the public meeting and would like to participate from a remote location, teleconferencing will be available.

Public Participation: This study group meeting is open to the public, subject to the capacity of the meeting room. Access to the meeting building is controlled; persons wishing to attend should contact Tricia Smeltzer or Niesha Toms of the Department of State Legal Adviser's Office at SmeltzerTK@state.gov or TomsNN@state.gov and provide your name, address, email address, contact information and affiliation for admission into the meeting. Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information. Persons who cannot attend but who wish to comment are welcome to do so by email to Michael Dennis at DennisMJ@state.gov. A member of the public needing reasonable accommodation should advise those same contacts not later than May 1. Requests made after that date will be considered, but might not be able to be fulfilled. If you are unable to attend the public meeting and you would like to participate by teleconferencing, please contact Tricia Smeltzer 202-776-8423 or Niesha Toms at 202-776-8420 to receive the conference call-in number and the relevant information.

Dated: April 11, 2012.
Michael Dennis,
Attorney-Adviser, Office of Private International Law, Office of the Legal Adviser, Department of State.

[FR Doc. 2012-9330 Filed 4-17-12; 8:45 am]

BILLING CODE 7410-08-P